RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

1. Title and purpose of information collection: Application for Employee Annuity Under the Railroad Retirement Act; OMB 3220-0002.

Section 2a of the Railroad Retirement Act (RRA) provides for payments of age and service, disability, and supplemental annuities to qualified employees. An annuity cannot be paid until the employee stops working for a railroad employer. In addition, the age and service employee must relinquish any rights held to such jobs. A disabled employee does not need to relinquish employee rights until attaining Full Retirement Age, or if earlier, when their spouse files for a spouse annuity. Benefits become payable after the employee meets certain other requirements, which depend on the type of annuity payable. The requirements for obtaining the annuities are prescribed in 20 CFR parts 216 and 220.

To collect the information needed to help determine an applicant's entitlement to, and the amount of, an employee retirement annuity the RRB uses Forms AA-1, Application for Employee Annuity; AA-1d, Application for Determination of Employee Disability; G-204, Verification of Workers Compensation/Public Disability Benefit Information and electronic Form AA-1cert, Application Summary and Certification.

The AA-1 application process obtains information from an applicant about their marital history, work history, military service, benefits from other governmental agencies, railroad pensions and Medicare entitlement for either an age and service or disability annuity. An RRB representative interviews the applicant either at a field office (preferred), an itinerant point, or by telephone. During the interview, the RRB representative enters the information obtained into an on-line information system. Upon completion of the interview, the on-line information system generates, for the applicant's review and traditional pen and ink “wet” signature, Form AA-1cert, Application Summary and Certification, which summarizes the information that was provided or verified by the applicant. When the RRB representative is unable to contact the applicant in person or by telephone, for example, the applicant lives in another country, a manual version of Form AA-1 is used.

Form AA-1d, Application for Determination of Employee's Disability, is completed by an employee who is filing for a disability annuity under the RRA, or a disability freeze under the Social Security Act, for early Medicare based on a disability. Form G-204, Verification of Worker's Compensation/Public Disability Benefit Information, is used to obtain and verify information concerning a worker's compensation or a public disability benefit that is or will be paid by a public agency to a disabled railroad employee. The RRB proposes no changes to Forms AA-1d or G-204.

Consistent with 20 CFR 217.17, upon completion of the AA-1 interview process, the RRB proposes to provide, in addition to the current Form AA-1cert pen and ink “wet” signature, an alternate signing method called “Attestation,” which will be documented by new form AA-1sum. Attestation refers to an action taken by the RRB representative to confirm and annotate in the RRB records (1) the applicant's intent to file an application; (2) the applicant's affirmation under penalty of perjury that the information provided is correct; and (3) the applicant's agreement to sign the application by proxy. The information collected as part of the AA-1 interview process will be the same irrespective of whether the application is signed by a pen and ink “wet” signature or by attestation. The only difference will be the method of signature.

In addition, consistent with Department of Treasury guidelines, the RRB proposes revisions to Forms AA-1 and AA-1cert to provide claimants a Direct Express® Master Card® Debit Card payment option. Other non-burden-impacting editorial and formatting changes are proposed. One response is requested of each respondent. Completion of the forms is required to obtain a benefit.

Estimate of Annual Respondent Burden
[The estimated annual respondent burden is as follows]
Form No. | Annual responses | Time (minutes) | Burden (hours)
AA-1 (without assistance) | 100 | 62 | 103
AA-1cert (with assistance) | 4,900 | 30 | 2,450
AA-1sum (with assistance) | 9,100 | 29 | 4,398
AA-1d (with assistance) | 3,700 | 35 | 2,158
AA-1d (without assistance) | 5 | 60 | 5
G-204 | 20 | 15 | 5
Total | 17,825 |  | 9,119

2. Title and purpose of information collection: Application for Survivor Insurance Annuities; OMB 3220-0030.

Under Section 2(d) of the Railroad Retirement Act (RRA), monthly survivor annuities are payable to surviving widow(er)s, parents, unmarried children, and in certain cases, divorced spouses, mothers (fathers), remarried widow(er)s, and grandchildren of deceased railroad employees if there are no qualified survivors of the employee immediately eligible for an annuity. The requirements relating to the annuities are prescribed in 20 CFR 216, 217, 218, and 219.

To collect the information needed to help determine an applicant's entitlement to, and the amount of, a survivor annuity the RRB uses Forms AA-17, Application for Widow(er)'s Annuity; AA-17b, Applications for Determination of Widow(er)'s Disability; AA-18, Application for Mother's/Father's and Child's Annuity; AA-19, Application for Child's Annuity; AA-19a, Application for Determination of Child's Disability; AA-20, Application for Parent's Annuity, and electronic Form AA-17cert, Application Summary and Certification.

The AA-17 application process obtains information from an applicant about their marital history, work history, benefits from other government agencies, and Medicare entitlement for a survivor annuity. An RRB representative interviews the applicant either at a field office (preferred), an itinerant point, or by telephone. During the interview, the RRB representative enters the information obtained into an on-line information system. Upon completion of the interview, the system generates, for the applicant's review and traditional pen and ink “wet” signature, Form AA-17cert, Application Summary and Certification, which is a summary of the information that the applicant provided or verified. When the RRB representative is unable to contact the applicant in person or by telephone, for example, the applicant lives in another country, a manual version of Form AA-17 is used.

Consistent with 20 CFR 217.17, upon completion of the AA-17 interview process, the RRB proposes to provide, in addition to the current Form AA-17cert pen and ink “wet” signature, an alternate signing method called “Attestation,” which will be documented by new form AA-17sum. Attestation refers to an action taken by the RRB representative to confirm and annotate in the RRB records (1) the applicant's intent to file an application; (2) the applicant's affirmation under penalty of perjury that the information provided is correct; and (3) the applicant's agreement to sign the application by proxy. The information collected as part of the AA-17 interview process will be the same irrespective of whether the application is signed by a pen and ink “wet” signature or by attestation. The only difference will be the method of signature.

In addition, consistent with Department of Treasury guidelines, the RRB proposes revisions to Forms AA-17, AA-17cert, AA-18, AA-19, and AA-20 cert to provide claimants a Direct Express® Master Card® Debit Card payment option. Other non-burden-impacting editorial and formatting changes are proposed. No changes are proposed to Forms AA-17b and AA-19a. One response is requested of each respondent. Completion of the forms is required to obtain a benefit.

Estimate of Annual Respondent Burden
[The estimated annual respondent burden is as follows]
Form No. | Annual responses | Time (minutes) | Burden (hours)
AA-17 (without assistance) | 100 | 47 | 78
AA-17b (with assistance) | 280 | 40 | 187
AA-17b (without assistance) | 20 | 50 | 17
AA-17cert (with assistance) | 900 | 20 | 300
AA-17sum (with assistance) | 2,100 | 19 | 665
AA-18 (without assistance) | 12 | 47 | 9
AA-19 (without assistance) | 9 | 47 | 7
AA-19a (with assistance) | 285 | 45 | 214
AA-19a (without assistance) | 15 | 65 | 16
AA-20 (without assistance) | 1 | 47 | 1
Total | 3,722 |  | 1,494

3. Title and purpose of information collection: Application for Spouse Annuity Under the Railroad Retirement Act; OMB 3220-0042.

Section 2(c) of the Railroad Retirement Act (RRA), provides for the payment of annuities to spouses of railroad retirement annuitants who meet the requirements under the RRA. The age requirements for a spouse annuity depend on the employee's age, date of retirement, and years of railroad service. The requirements relating to the annuities are prescribed in 20 CFR parts 216, 218, 219, 232, 234, and 295.

To collect the information needed to help determine an applicant's entitlement to, and the amount of, a spouse annuity the RRB uses Form AA-3, Application for Spouse/Divorced Spouse Annuity, and electronic Form AA-3cert, Application Summary and Certification.

The AA-3 application process gathers information from an applicant about their marital history, work history, benefits from other government agencies, railroad pensions and Medicare entitlement for a spouse annuity. An RRB representative interviews the applicant either at a field office (preferred), an itinerant point, or by telephone. During the interview, the RRB representative enters the information obtained into an on-line information system. Upon completion of the interview, the system generates, for the applicant's review and traditional pen and ink “wet” signature, Form AA-3cert, Application Summary and Certification, which is a summary of the information that the applicant provided or verified. When the RRB representative is unable to contact the applicant in person or by telephone, for example, the applicant lives in another country, a manual version of Form AA-3 is used.

Consistent with 20 CFR 217.17, upon completion of the AA-3 interview process, the RRB proposes to provide, in addition to the current Form AA-3cert pen and ink “wet” signature, an alternate signing method called “Attestation,” which will be documented by new Form AA-3sum. Attestation refers to an action taken by the RRB representative to confirm and annotate in the RRB records (1) the applicant's intent to file an application; (2) the applicant's affirmation under penalty of perjury that the information provided is correct; and (3) the applicant's agreement to sign the application by proxy. The information collected as part of the AA-3 interview process will be the same irrespective of whether the application is signed by a pen and ink “wet” signature or by attestation. The only difference will be the method of signature.

In addition, consistent with Department of Treasury guidelines, the RRB proposes revisions to Forms AA-3 and AA-3cert, to provide claimants a Direct Express® Master Card® Debit Card payment option. Other non-burden-impacting editorial and formatting changes are proposed. One response is requested of each respondent. Completion of the forms is required to obtain a benefit.

Estimate of Annual Respondent Burden
[The estimated annual respondent burden is as follows]
Form No. | Annual responses | Time (minutes) | Burden (hours)
AA-3 (without assistance) | 250 | 58 | 242
AA-3cert (with assistance) | 3,700 | 30 | 1,850
AA-3sum (with assistance) | 7,100 | 29 | 3,432
Total | 11,050 |  | 5,524

Additional Information or Comments: To request more information or to obtain a copy of the information collection justification, forms, and/or supporting material, contact Charles Mierzwa, the RRB Clearance Officer, at (312) 751-3363 or Charles.Mierzwa@RRB.GOV. Comments regarding the information collection should be addressed to Patricia Henaghan, Railroad Retirement Board, 844 North Rush Street, Chicago, Illinois 60611-2092 or emailed to Patricia.Henaghan@RRB.GOV. Written comments should be received within 60 days of this notice.

Charles Mierzwa,
Clearance Officer.

[FR Doc. 2012-190 Filed 1-6-12; 8:45 am]

BILLING CODE 7905-01-P